DEPARTMENT OF TRANSPORTATION

Federal Aviation Administration

14 CFR Part 71

[Docket No. FAA-2020-1155; Airspace Docket No. 20-ASO-28]

RIN 2120-AA66

Amendment of Area Navigation (RNAV) Route Q-34; Northeastern United States

AGENCY: Federal Aviation Administration (FAA), DOT.

ACTION: Final rule.

SUMMARY: This action amends Area Navigation (RNAV) route Q-34 in the northeastern United States in support of the Northeast Corridor Atlantic Coast Route Project (NEC ACR) for improved efficiency of the National Airspace System (NAS) while reducing the dependency on ground based navigational systems.

DATES: Effective date 0901 UTC, October 7, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fr.inspection@nara.gov or go to https://www.archives.gov/federal-register/cfr/ibr-locations.html.

FOR FURTHER INFORMATION CONTACT: Sean Hook, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it expands the availability of RNAV routes in the NAS, increases airspace capacity, and reduces complexity in high air traffic volume areas.

History

The FAA published a notice of proposed rulemaking for Docket No. FAA 2020-1155 in the Federal Register (86 FR 3889; January 15, 2021), amending RNAV route Q-34 in the northeastern United States in support of the Northeast Corridor Atlantic Coast Route Project (NEC ACR) for improved efficiency of the National Airspace System (NAS) while reducing the dependency on ground based navigational systems.

United States area navigation routes are published in paragraph 2006 of FAA Order 7400.11E dated July 21, 2020, and effective September 15, 2020, which is incorporated by reference in 14 CFR 71.1. The United States area navigation route listed in this document will be published subsequently in the Order.

Availability and Summary of Documents for Incorporation by Reference

This document amends FAA Order 7400.11E, Airspace Designations and Reporting Points, dated July 21, 2020 and effective September 15, 2020. FAA Order 7400.11E is publicly available as listed in the ADDRESSES section of this document. FAA Order 7400.11E lists Class A, B, C, D, and E airspace areas, air traffic service routes, and reporting points.

The Rule

This action amends 14 CFR part 71 to amend RNAV route Q-34, in the northeastern United States to support the Northeast Corridor Atlantic Coast Route project developed Performance Based Navigation (PBN) routes involving the Washington, Boston, New York, and Jacksonville Air Route Traffic Control Centers (ARTCC). The NEC ACR route also ties-in to the existing high altitude RNAV route structure enabling more efficient direct routings between the U.S. east coast and Caribbean area locations.

Q-34: Q-34 will extend between the Texarkana, AR (TXK), VORTAC to the Robbinsville, NJ (RBV), VORTAC.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this airspace action of amending RNAV route Q-34 qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020 and effective September 15, 2020, is amended as follows:

Paragraph 2006 United States Area Navigation Routes.

* * * * *

Q-34 Texarkana, AR (TXK) to Robbinsville, NJ (RBV) [Amend]
Texarkana, AR (TXK) | VORTAC | (Lat. 33°30′49.97″ N, long. 094°04′23.67″ W)
LOOSE, AR | WP | (Lat. 33°53′46.88″ N, long. 093°05′08.38″ W)
MATIE, AR | FIX | (Lat. 34°05′41.96″ N, long. 092°33′02.35″ W)
MEMFS, TN | WP | (Lat. 35°00′54.62″ N, long. 089°58′58.87″ W)
SWAPP, TN | FIX | (Lat. 36°36′49.78″ N, long. 085°10′56.04″ W)
GHATS, KY | FIX | (Lat. 36°48′06.75″ N, long. 084°34′02.44″ W)
FOUNT, KY | FIX | (Lat. 36°57′24.34″ N, long. 084°03′01.92″ W)
TONIO, KY | FIX | (Lat. 37°15′15.20″ N, long. 083°01′47.53″ W)
KONGO, KY | FIX | (Lat. 37°30′19.46″ N, long. 082°08′12.56″ W)
NEALS, WV | FIX | (Lat. 37°35′45.99″ N, long. 081°48′24.62″ W)
SITTR, WV | WP | (Lat. 37°46′49.13″ N, long. 081°07′23.70″ W)
ASBUR, WV | FIX | (Lat. 37°49′24.41″ N, long. 080°27′51.44″ W)
DENNY, VA | FIX | (Lat. 37°52′00.15″ N, long. 079°44′13.75″ W)
MAULS, VA | WP | (Lat. 37°52′49.36″ N, long. 079°19′49.19″ W)
Gordonsville, VA (GVE) | VORTAC | (Lat. 38°00′48.96″ N, long. 078°09′10.90″ W)
BOOYA, VA | WP | (Lat. 38°24′20.50″ N, long. 077°21′46.36″ W)
DUALY, MD | WP | (Lat. 38°45′53.59″ N, long. 076°50′33.76″ W)
BIGRG, MD | WP | (Lat. 39°15′13.92″ N, long. 076°07′13.77″ W)
PNGWN, NJ | WP | (Lat. 39°39′27.07″ N, long. 075°30′41.79″ W)
HULKK, NJ | WP | (Lat. 39°59′53.04″ N, long. 074°58′52.52″ W)
Robbinsville, NJ (RBV) | VORTAC | (Lat. 40°12′08.65″ N, long. 074°29′42.09″ W)

* * * * *

Issued in Washington, DC, on July 28, 2021.
George Gonzalez,
Acting Manager, Rules and Regulations Group.

[FR Doc. 2021-16432 Filed 8-2-21; 8:45 am]

BILLING CODE 4910-13-P